ENVIRONMENTAL PROTECTION AGENCY

40 CFR Part 52

[EPA-R09-OAR-2023-0422; FRL-11353-02-R9]

Air Plan Revisions; California; Butte County Air Quality Management District; Nonattainment New Source Review Requirements for the 2015 8-Hour Ozone Standard

AGENCY: Environmental Protection Agency (EPA).

ACTION: Final rule.

SUMMARY: The Environmental Protection Agency (EPA) is taking final action to approve revisions to the Butte County Air Quality Management District (“District”) portion of the California State Implementation Plan (SIP). These revisions address the nonattainment new source review (NNSR) requirements for the 2015 ozone national ambient air quality standards (NAAQS or “standard”). We are approving the SIP revisions pursuant to the Clean Air Act (CAA or “Act”) and its implementing regulations.

DATES: This rule is effective March 6, 2024.

ADDRESSES: The EPA has established a docket for this action under Docket ID No. EPA-R09-OAR-2023-0422. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Shaheerah Kelly, EPA Region IX, 75 Hawthorne Street, San Francisco, CA 94105. By phone: (415) 947-4156 or by email at kelly.shaheerah@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On October 17, 2023 (88 FR 71518), the EPA proposed to approve the rule listed in Table 1 into the California SIP. The amended rule was submitted by the California Air Resources Board (CARB), the agency that serves as the governor's designee for California SIP submittals.

Table 1—Submitted Rule
Rule | Title | Amendment date | Submittal date | Cover letter date
Rule 432 | Federal New Source Review (FNSR) | 4/22/2021 | 8/3/2021 | 8/3/2021

The District's SIP-approved nonattainment New Source Review (NNSR) program, established in Rule 432, “Federal New Source Review (FNSR)” (amended March 23, 2017) (“Rule 432”), applies to the construction and modification of stationary sources, including major stationary sources in nonattainment areas under its jurisdiction.¹ The District submitted the August 3, 2021 SIP revision primarily to demonstrate that Rule 432 complies with the 2015 ozone NAAQS NNSR SIP requirements in 40 CFR 51.165. The only revision to Rule 432 from the SIP-approved NNSR program was the removal of provisions related to interpollutant trading due to a recent court decision that vacated the interpollutant trading program.²

¹ 83 FR 26222 (June 6, 2018).

² Sierra Club v. EPA, 21 F.4th 815 (D.C. Cir. 2021) and 86 FR 37918 (July 19, 2021).

We proposed to approve this rule because we determined that it complies with the relevant CAA requirements applicable to the Butte County nonattainment area as a Marginal ozone nonattainment area. Our proposed action contains more information on the rule and our evaluation.

II. Public Comments and EPA Responses

The EPA's proposed action provided a 30-day public comment period. During this period, we received no comments that resulted in a change in our proposed action.

III. EPA Action

No comments were submitted that changed our assessment of Rule 432 as described in our proposed action. Therefore, as authorized in CAA section 110(k)(3), and part D of title I of the Act and its regulations in 40 CFR 51.165, the EPA is approving Rule 432 into the California SIP. The April 22, 2021 version of Rule 432 will replace the previous version of this rule amended on March 23, 2017, and approved into the SIP on June 6, 2018.

IV. Incorporation by Reference

In this rule, the EPA is finalizing regulatory text that includes incorporation by reference. In accordance with requirements of 1 CFR 51.5, the EPA is finalizing the incorporation by reference of District Rule 432, “Federal New Source Review (FNSR),” amended on April 22, 2021, which establishes preconstruction review requirements for major stationary sources and major modifications in the Butte County nonattainment area. The EPA has made, and will continue to make, these documents available through www.regulations.gov and at the EPA Region IX Office (please contact the person identified in the FOR FURTHER INFORMATION CONTACT section of this preamble for more information).

V. Statutory and Executive Order Reviews

Under the Act, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate environmental justice considerations as part of its SIP submittal; the CAA and applicable implementing regulations neither prohibit nor require such an evaluation. The EPA did not perform an EJ analysis and did not consider EJ in this action. Consideration of EJ is not required as part of this action, and there is no information in the record inconsistent with the stated goal of Executive Order 12898 of achieving environmental justice for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by April 5, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Reporting and recordkeeping requirements, Volatile organic compounds.

Dated: January 29, 2024.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraphs (c)(504)(i)(A)(2) and (c)(591)(i)(B) to read as follows:

§ 52.220 Identification of plan—in part.

* * * * *

(c) * * *

(504) * * *

(i) * * *

(A) * * *

(2) Previously approved on June 6, 2018, in paragraph (c)(504)(i)(A)(1) of this section and now deleted with replacement in paragraph (c)(591)(i)(B)(1) of this section: Rule 432, “Federal New Source Review,” amended on March 23, 2017.

* * * * *

(591) * * *

(i) * * *

(B) Butte County Air Quality Management District.

(1) Rule 432, “Federal New Source Review (FNSR),” amended on April 22, 2021.

(2) [Reserved]

* * * * *

[FR Doc. 2024-02085 Filed 2-2-24; 8:45 am]

BILLING CODE 6560-50-P